FEDERAL COMMUNICATIONS COMMISSION

Notice of Public Information Collection(s) Being Reviewed by the Federal Communications Commission, Comments Requested

July 11, 2006.

SUMMARY: The Federal Communications Commission, as part of its continuing effort to reduce paperwork burden, invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information, subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 18, 2006. If you anticipate that you will be submitting comments, but find it difficult to do so within the period of time allowed by this notice, you should advise the contact listed below as soon as possible.

ADDRESSES: You may submit your Paperwork Reduction Act (PRA) comments by e-mail or U.S. postal mail. To submit your comments by e-mail send them to: PRA@fcc.gov. To submit your comments by U.S. mail, mark it to the attention of Leslie F. Smith, Federal Communications Commission, 445 12th Street, SW., Room 1-A804, Washington, DC 20554.

FOR FURTHER INFORMATION CONTACT: For additional information about the information collection(s) send an e-mail to PRA@fcc.gov or contact Leslie F. Smith at 202-418-0217.

SUPPLEMENTARY INFORMATION: OMB Control Number: 3060-0949.

Title: Interstate Telecommunications Service Provider Worksheet.

Form Number: FCC Form 159-W.

Type of Review: Extension of a currently approved collection.

Respondents: Business and other for-profit entities.

Number of Respondents: 3,400.

Estimated Time per Response: 0.5 hours (30 minutes).

Frequency of Response: On occasion and annual reporting requirements.

Total Annual Burden: 1,700 hours.

Total Annual Costs: None.

Privacy Impact Assessment: No impact(s).

Needs and Uses: Section 9 of the Communications Act of 1934, as amended, authorizes the FCC to assess and to collect regulatory fees to recover costs incurred in carrying out the Commission's enforcement actions, policies, rulemaking activities, and user information services. Telecommunications licensees and permittees that provide interstate, international, mobile, and satellite services, including telephone operator services, must pay those fees, which are based upon a percentage of the licensee/permittee's interstate revenues. The FCC requires telecommunications licensees and permittees to file FCC Form 159-W to determine how much of each telecommunications carrier's interstate revenues are available to the carrier by extraction from another information collection, Telecommunications Reporting Worksheet, FCC Form 499-A (OMB Control Number 3060-0855). The FCC developed FCC Form 159-W to provide a convenient format for these telecommunications licensees and permittees to verify the information that is extracted from the interstate revenue information (which are already “populated” on this form) and to complete and/or verify the simple calculation of the fee amount that is due, correcting any inaccuracies as necessary. The FCC uses this information to determine if the telecommunications licensee or permittee has properly calculated the amount of its regulatory fee. The FCC is making minor revisions to FCC Form 159-W to provide a clearer format. Respondents may access FCC Form 159-W online through the FCC's Web page: http://www.fcc.gov/frnreg.

OMB Control Number: 3060-0917.

Title: CORES Registration Form.

Form Number: FCC Form 160.

Type of Review: Extension of a currently approved collection.

Respondents: Individuals or households; Businesses or other for-profit entities; Not-for-profit institutions; and State, Local, or Tribal Governments.

Number of Respondents: 156,000.

Estimated Time per Response: 10 minutes (0.166 hours).

Frequency of Response: One time reporting requirement.

Total Annual Burden: 26,520 hours.

Total Annual Costs: None.

Privacy Impact Assessment: No impact(s).

Needs and Uses: Respondents use FCC Form 160 to register with the Commission's CORES program Respondents may register online through http://www.fcc.gov/frnreg. By registering, the respondent receives a FCC Registration Number (FRN), which is required for anyone doing business with the Commission, and which FCC Form 160 is used to collect information that pertains to the entity's name, address, contact representative, telephone number, e-mail address, and fax number. The Commission uses this information to collect and to report on any delinquent amounts arising from the respondent's business dealings with the FCC, including both “feeable” and “nonfeeable” services. The CORES Registration program also enables the Commission to ensure that registrants (respondents) receive any refunds due, to service public inquiries, and to comply with the Debt Collection Improvement Act of 1996.

OMB Control Number: 3060-0918.

Title: CORES Update/Change Form.

Form Number: FCC Form 161.

Type of Review: Extension of a currently approved collection.

Respondents: Individuals or households; Businesses or other for-profit entities; Not-for-profit institutions; and State, Local, or Tribal Governments.

Number of Respondents: 57,600.

Estimated Time per Response: 10 minutes (0.166 hours).

Frequency of Response: One time reporting requirement.

Total Annual Burden: 9,792 hours.

Total Annual Costs: None.

Privacy Impact Assessment: No impact(s).

Needs and Uses: Once respondents have registered with the CORES (Commission Registration System) database and been issued a FCC Registration Number (FRN), the unique identifier for doing business with the Commission, respondents may use FCC Form 161 to update and/or change their name, address, telephone number, e-mail address, fax number, contact representative, contact representative's address, telephone number, e-mail address, and/or fax number, which they have entered previously in the CORES database. FCC Form 161 may be accessed through the FCC Web page: http://www.fcc.gov/frnreg. The FCC uses CORES to ensure that respondents receive any refunds due, to service public inquiries, and to comply with the Debt Collection Act of 1996.

OMB Control Number: 3060-0919.

Title: CORES Certification Form.

Form Number: FCC Form 162.

Type of Review: Extension of a currently approved collection.

Respondents: Individuals or households; Businesses or other for-profit entities; Not-for-profit institutions; and State, Local, or Tribal Governments.

Number of Respondents: 200.

Estimated Time per Response: 5 minutes (0.084 hours).

Frequency of Response: One time reporting requirement.

Total Annual Burden: 17 hours.

Total Annual Costs: None.

Privacy Impact Assessment: No impact(s).

Needs and Uses: Once respondents have registered CORES (Commission Registration System) database and been issued a FCC Registration Number (FRN), the unique identifier for doing business with the Commission, respondents must use FCC Form 162 when filing any non-feeable manual application form with the FCC, which may be accessed through the FCC's Web page: http://www.fcc.gov/frnreg. The Commission uses the information on FCC Form 162 to service public inquiries and to comply with the Debt Collection Improvement Act of 1996. Respondents may also use to certify that the respondent's FCC Registration Number (FRN) is correct.

Federal Communications Commission.
Marlene H. Dortch,
Secretary.

[FR Doc. E6-11411 Filed 7-18-06; 8:45 am]

BILLING CODE 6712-01-P